OFFICE OF MANAGEMENT AND BUDGET

Notice; Senior Executive Service Performance Review Board Membership

AGENCY: Office of Management and Budget (OMB).

ACTION: Notice.

SUMMARY: The Office of Management and Budget (OMB) publishes the names of the members selected to serve on its Senior Executive Service Performance Review Board (PRB). This notice supersedes all previous notices of the PRB membership.

FOR FURTHER INFORMATION CONTACT: Sarah Whittle Spooner. 202-395-4665.

SUPPLEMENTARY INFORMATION: Section 4314(c) of Title 5, U.S.C., requires each agency to establish, in accordance with regulations prescribed by the Office of Personnel Management, one or more PRBs. The PRB shall review and evaluate the initial appraisal of a senior executive's performance by the supervisor, along with any response by the senior executive, and make recommendations to the final rating authority relative to the performance of the senior executive.

The persons named below have been selected to serve on OMB's PRB.

Stephen M. Billy, Senior Advisor

Adrienne E. Lucas, Deputy Associate Director for Natural Resources

Dominic J. Mancini, Deputy Administrator, Office of Information and Regulatory Affairs

Mark R. Paoletta, General Counsel

Sarah W. Spooner, Assistant Director for Management and Operations

(Authority: 5 U.S.C. 4314(c); 5 CFR 430.311.)

Sarah W. Spooner,
Assistant Director for Management and Operations.

[FR Doc. 2025-20336 Filed 11-18-25; 8:45 am]

BILLING CODE 3110-01-P